DEPARTMENT OF COMMERCE

National Oceanic and Atmospheric Administration

Hydrographic Services Review Panel Meeting

AGENCY: National Ocean Service, National Oceanic and Atmospheric Administration (NOAA), Department of Commerce.

ACTION: Notice of public meeting (via conference call).

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice. The purpose of the conference call is to allow Panel members to deliberate and vote on recommendations conceptualized during a meeting in Seattle, Washington, on September 14, 2007. Written public comments should be submitted to Captain Steven Barnum, Designated Federal Officer (DFO), by October 11, 2007.

Date and Time: The conference call will covene at 2 p.m. Eastern Time, October 15, 2007, and end at or about 3:30 p.m.

FOR FURTHER INFORMATION CONTACT: Captain Steven Barnum, NOAA, Designated Federal Officer (DFO), Office of Coast Survey, National Ocean Service, NOAA (N/CS), 1315 East West Highway, Silver Spring, Maryland 20910; Telephone: 301-713-2770, Fax: 301-713-4019; e-mail: Steven.Barnum@noaa.gov or Hydroservices.panel@noaa.gov; and for more information visit the NOAA HSRP Web site at http://nauticalcharts.noaa.gov/ocs/hsrp/hsrp.htm.

SUPPLEMENTARY INFORMATION: The conference call is available to the public through the following, toll free call-number: (888) 791-6044 participant passcode HSRP. Interested members of the public may call this number and listen to the meeting. Persons with hearing impairments may follow the proceedings by calling the Federal Relay Service [TTY (800) 877-8339, Voice (866) 377-8642 or Voice Carry-Over (877) 877-6280] and provide the Service with the conference call number and participant passcode. Be sure to notify the operator that it is a “Conference Call” before you provide call number and participant passcode.

Matters To Be Considered: A vote is required for recommendations related to NOAA Hydrographic Services Role in the Integrated Ocean Observing System (IOOS). The recommendation letter and HSRP position will be posted before the conference call; please visit http://nauticalcharts.noaa.gov/ocs/hsrp.htm.

Dated: September 20, 2007.
Captain Steven Barnum,
Director, Office of Coast Survey, National Oceanic and Atmospheric Administration.

[FR Doc. 07-4749 Filed 9-26-07; 8:45 am]

BILLING CODE 3510-JE-M